DEPARTMENT OF LABOR

Employment and Training Administration

[TA-W-52,664 and TA-W-52,664A]

Slater Steel Corporation, a Wholly Owned Subsidiary of Slater Steel, Inc., Fort Wayne, IN; Including an Employee of Slater Steel Corporation a Wholly Owned Subsidiary of Slater Steel, Inc., Located in San Francisco, CA; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on September 25, 2003, applicable to workers of Slater Steel Corporation, a wholly owned subsidiary of Slater Steel, Inc., Fort Wayne, Indiana. The notice was published in the Federal Register on November 28, 2003 (68 FR 66879).

At the request of the State agency, the Department reviewed the certification for workers of the subject firm. New information shows that a worker was separated involving an employee of the Fort Wayne, Indiana facility of Slater Steel Corporation, a wholly owned subsidiary of Slater Steel, Inc. located in San Francisco, California. This employee provided sales function services supporting the production of stainless steel bar products at the Fort Wayne, Indiana location of the subject firm.

Based on these findings, the Department is amending this certification to include an employee of the Fort Wayne, Indiana facility of the subject firm, located in San Francisco, California.

The intent of the Department's certification is to include all workers of Slater Steel Corporation, a wholly owned subsidiary of Slater Steel, Inc., Fort Wayne, Indiana, who were adversely affected by increased imports.

The amended notice applicable to TA-W-52,664 is hereby issued as follows:

All workers of Slater Steel Corporation, a wholly owned subsidiary of Slater Steel, Inc., Fort Wayne, Indiana (TA-W-52,664), including an employee of Slater Steel Corporation, a wholly owned subsidiary of Slater Steel, Inc., Fort Wayne, Indiana, located in San Francisco, California (TA-W-52,664A), who became totally or partially separated from employment on or after April 7, 2003, through September 25, 2005, are eligible to apply for adjustment assistance under section 223 of the Trade Act of 1974, and are also eligible to apply for alternative trade adjustment assistance under section 246 of the Trade Act of 1974.

Signed in Washington, DC, this 28th day of June 2004.
Linda G. Poole,
Certifying Officer, Division of Trade Adjustment Assistance.

[FR Doc. 04-15312 Filed 7-6-04; 8:45 am]

BILLING CODE 4510-30-P